DEPARTMENT OF HOMELAND SECURITY

Federal Emergency Management Agency

[Docket ID FEMA-2010-0062]

Disaster Temporary Housing Operational Guide

AGENCY: Federal Emergency Management Agency, DHS.

ACTION: Notice of availability; request for comments.

SUMMARY: The Federal Emergency Management Agency (FEMA) is accepting comments on the Disaster Temporary Housing Operational Guide.

DATES: Comments must be received by November 22, 2010.

ADDRESSES: Comments must be identified by docket ID FEMA-2010-0062 and may be submitted by one of the following methods:

Federal eRulemaking Portal: http://www.regulations.gov. Follow the instructions for submitting comments. Please note that this proposed operational guide is not a rulemaking and the Federal Rulemaking Portal is being utilized only as a mechanism for receiving comments.

Mail: Office of Chief Counsel, Federal Emergency Management Agency, Room 840, 500 C Street, SW., Washington, DC 20472-3100.

FOR FURTHER INFORMATION CONTACT: Stephen Miller, Federal Emergency Management Agency, 500 C Street, SW., Washington, DC 20472, 202-212-1000.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section. Please submit your comments and any supporting material by only one means to avoid the receipt and review of duplicate submissions.

Docket: The proposed operational guide is available in docket ID FEMA-2010-0062. For access to the docket to read background documents or comments received, go to the Federal eRulemaking Portal at http://www.regulations.gov and search for the docket ID. Submitted comments may also be inspected at FEMA, Office of Chief Counsel, Room 840, 500 C Street, SW., Washington, DC 20472.

II. Background

The proposed Disaster Temporary Housing Operational Guide builds on previous annual Disaster Housing Plans to present a comprehensive picture of FEMA housing assistance and housing support. The goal of this document is to help FEMA's partners understand FEMA programs and capabilities and to help establish stakeholder expectations.

The proposed operational guide does not have the force or effect of law.

FEMA seeks comment on the proposed operational guide, which is available online at http://www.regulations.gov in docket ID FEMA-2010-0062. Based on the comments received, FEMA may make appropriate revisions to the proposed operational guide. Although FEMA will consider any comments received in the drafting of the final operational guide, FEMA will not provide a response to comments document. When or if FEMA issues a final operational guide, FEMA will publish a notice of availability in the Federal Register and make the final operational guide available at http://www.regulations.gov. The final operational guide will not have the force or effect of law.

Authority: 42 U.S.C. 5170b; 42 U.S.C. 5174; 44 CFR part 206.

Robert Farmer,
Deputy Director, Office of Policy and Program Analysis, Federal Emergency Management Agency.

[FR Doc. 2010-26705 Filed 10-21-10; 8:45 am]

BILLING CODE 9111-23-P